DEPARTMENT OF COMMERCE

International Trade Administration

[A-580-816]

Notice of Final Results of the Twelfth Administrative Review of the Antidumping Duty Order on Certain Corrosion-Resistant Carbon Steel Flat Products from the Republic of Korea

AGENCY: Import Administration, International Trade Administration, Department of Commerce.

SUMMARY: On September 11, 2006, the Department of Commerce (the Department) published the preliminary results of the antidumping duty administrative review for certain corrosion-resistant carbon steel flat products (CORE) from the Republic of Korea (Korea). See Certain Corrosion-Resistant Carbon Steel Flat Products from Korea: Notice of Preliminary Results and Partial Rescission of Antidumping Duty Administrative Review, 71 FR 53370 (September 11, 2006) (Preliminary Results). This review covers four manufacturers/exporters of the subject merchandise: Union Steel Manufacturing Co., Ltd. (Union); Pohang Iron & Steel Company, Ltd. (POSCO) and Pohang Coated Steel Co., Ltd. (POCOS) (collectively, the POSCO Group); Hyundai HYSCO (HYSCO); and Dongbu Steel Co., Ltd. (Dongbu) (collectively, respondents). The period of review (POR) is August 1, 2004, through July 31, 2005.

As a result of our analysis of the comments received, these final results differ from the preliminary results. For our final results, we have found that during the POR, Union and Dongbu sold subject merchandise at less than normal value (NV). We have also found that HYSCO and the POSCO Group did not make sales of the subject merchandise at less than NV (i.e., they have a zero or de minimis dumping margin).

EFFECTIVE DATE: March 20, 2007.

FOR FURTHER INFORMATION CONTACT: Jolanta Lawska (Union), Preeti Tolani (Dongbu), Victoria Cho (the POSCO Group), and Joy Zhang (HYSCO), AD/CVD Operations, Office 3, Import Administration, International Trade Administration, U.S. Department of Commerce, 14th Street and Constitution Avenue, NW., Washington, DC 20230; telephone: (202) 482-8362, (202) 482-0395, (202) 482-5075, and (202) 482-1168, respectively.

SUPPLEMENTARY INFORMATION:

Background

On September 11, 2006, the Department published the Preliminary Results. On January 3, 2007, the Department published the notice of extension of final results of the antidumping administrative review of CORE from Korea, extending the date for these final results to March 12, 2007. See Corrosion-Resistant Carbon Steel Flat Products from Korea: Extension of Time Limits for the Final Results of Antidumping Administrative Review, 72 FR 102 (January 3, 2007).

Comments from Interested Parties

We invited parties to comment on our Preliminary Results. On October 20, 2006, Mittal Steel USA ISG, Inc. (Mittal) and United States Steel Corporation (US Steel) filed case briefs concerning all respondents and all respondents filed a case brief.¹ On October 31, 2006, Mittal filed a rebuttal brief concerning all respondents and U.S. Steel filed rebuttal briefs concerning Union, Dongbu, and POSCO. On October 31, 2006, all respondents filed a rebuttal brief.

¹ The Nucor Corporation, a domestic interested party, did not submit a case brief or a rebuttal brief.

Scope of the Order

This order covers cold-rolled (cold-reduced) carbon steel flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are corrosion-resistant flat-rolled products of non-rectangular cross-section where such cross-section is achieved subsequent to the rolling process (i.e., products which have been “worked after rolling”) for example, products which have been beveled or rounded at the edges. Excluded from this order are flat-rolled steel products either plated or coated with tin, lead, chromium, chromium oxides, both tin and lead (terne plate), or both chromium and chromium oxides (tin-free steel), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio.

These HTSUS item numbers are provided for convenience and customs purposes. The written descriptions remain dispositive.

Analysis of Comments Received

All issues raised in the case and rebuttal brief by parties to this administrative review are addressed in the accompanying Issues and Decision Memorandum, which is hereby adopted by this notice. A list of the issues which parties have raised, and to which we have responded in the Issues and Decision Memorandum, is attached to this notice as an Appendix. In addition, a complete version of the Issues and Decision Memorandum can be accessed directly on the Web at http://ia.ita.doc.gov/frn. The paper copy and electronic version of the Issues and Decision Memorandum are identical in content.

Final Results of Review

We determine that the following weighted-average margins exist:

Producer/Manufacturer | Weighted-Average Margin
Dongbu | 2.07 %
Union | 1.45 %
The POSCO Group | 0.35 % (de minimis)
HYSCO | 0.09 % (de minimis)

Assessment

The Department will determine, and Customs and Border Protection (CBP) shall assess, antidumping duties on all appropriate entries, pursuant to 19 CFR 351.212(b). The Department calculated importer-specific duty assessment rates on the basis of the ratio of the total antidumping duties calculated for the examined sales to the total entered value of the examined sales for that importer. Where the assessment rate is above de minimis, we will instruct CBP to assess duties on all entries of subject merchandise by that importer. The Department will issue appropriate assessment instructions directly to CBP 15 days after publication of these final results.

Cash Deposit Requirements

The following deposit requirements will be effective upon publication of the final results of this administrative review for all shipments of CORE from Korea entered, or withdrawn from warehouse, for consumption on or after the publication date of these final results, as provided by section 751(a) of the Tariff Act of 1930, as amended (the Act): (1) for companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 17.70 percent, the “All Others” rate established in the less-than-fair-value investigation. These deposit requirements shall remain in effect until further notice.

Reimbursement of Duties

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: March 12, 2007.
David M. Spooner,
Assistant Secretary for Import Administration.

APPENDIX I

List of Comments in the Accompanying Issues and Decision Memorandum

A. General Issues

Comment 1: Model-Match Methodology and Laminated Products

Comment 2: Treatment of CEP Offset

Comment 3: Adjustments to U.S. Prices for Duty Drawback Paid in Korea

Comment 4: Treatment of Indirect Selling Expenses incurred in Korea

Comment 5: Treatment of Production Yields

B. Company-Specific Issues

Dongbu Steel Co., Ltd.

Comment 6: Treatment of All Sales Entered During the POR in Dongbu's Margin Calculation

Hyundai HYSCO

Comment 7: Cash Deposit Rate for HYSCO

Union Steel Manufacturing Co., Ltd.

Comment 8: DINDIRSU Calculation

Comment 9: Treatment of Union's Indirect Selling Expense Ratio

Comment 10: Treatment of Union's Calculation of DKA's Short Term Interest Rate

Comment 11: Treatment of Union's Overrun Sales in the Home Market

Comment 12: Treatment of Union's Home Market Sales of Non-Prime Merchandise in the Calculation of Normal Value

Comment 13: Ministerial Error with respect to QTYCVNU Field

Comment 14: Ministerial Error Regarding Union's Home Market Credit Expenses

Pohang Iron & Steel Company, Ltd. and Pohang Coated Steel Co., Ltd.

Comment 15: Treatment of the POSCO's Group Home Market Credit Expenses on Freight billed to its Customers

Comment 16: The Department's Calculation of the POSCO Group's Sales Database Affecting Certain Conversion Factors

Comment 17: Treatment of the POSCO Group's Short-Term Interest Rate Used for U.S. Credit Expenses

Comment 18: Treatment of the POSCO Group's of Overun Sales in the Home Market

Comment 19: The Department's Calculation of the POSCO Group's Certain Merchandise Sales in the Home Market

Comment 20: Treatment of the POSCO Group's Cash Deposit Instructions

Comment 21: Treatment of POSAM's (Pohang Steel America Corp.) Indirect Selling Expenses

[FR Doc. E7-5041 Filed 3-19-07; 8:45 am]

BILLING CODE 3510-DS-S